DEPARTMENT OF COMMERCE

Foreign-Trade Zones Board

[Docket 29-2004]

Foreign-Trade Zone 154—Baton Rouge, Louisiana, Area; Application for Expansion

An application has been submitted to the Foreign-Trade Zones Board (the Board), by the Greater Baton Rouge Port Commission, grantee of FTZ 154, requesting authority to expand the zone in the Baton Rouge, Louisiana, area, adjacent to the Baton Rouge Customs port of entry. The application was submitted pursuant to the provisions of the Foreign-Trade Zones Act, as amended (19 U.S.C. 81a-81u), and the regulations of the Board (15 CFR part 400). It was formally filed on July 28, 2004.

FTZ 154 was approved on November 2, 1988 (Board Order 396, 53 FR 48003, 11/29/88), and expanded/reorganized on April 5, 2001 (Board Order 1159, 66 FR 19422, 4/16/01). The zone project currently consists of the following sites (3,638 acres) in the Baton Rouge area: Site 1 (370 acres)—Port of Greater Baton Rouge's entire deep-water complex along the Mississippi River, Port Allen; Site 2 (1,277 acres)—Baton Rouge Metropolitan Airport, North Baton Rouge; Site 3 (157 acres)—Inland Rivers Marine Terminal FTZ site located on Louisiana Highway 1, Port Allen; and, Site 4 (1,834 acres)—industrial/chemical complex (Dow Chemical) located on Louisiana Highway 1 within the Parishes of West Baton Rouge and Iberville.

The applicant is now requesting authority to expand the general-purpose zone to include an additional site in St. Martin Parish: Proposed Site 5 consists of 120 acres (2 parcels) within the 155-acre St. Martin Parish Industrial Park located at 6261 Louisiana Highway 31 near St. Martinville, Louisiana. The property is owned by St. Martin Parish Government and St. Martinville L.L.C., and it is currently being marketed for industrial development. No specific manufacturing is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is October 5, 2004. Rebuttal comments in response to material submitted during the foregoing period may be submitted during the subsequent 15-day period (to October 20, 2004).

A copy of the application and accompanying exhibits will be available during this time for public inspection at the Office of the Foreign-Trade Zones Board's Executive Secretary at the first address listed above, and at the Office of the Port of Greater Baton Rouge, 2425 Ernest Wilson Drive, Port Allen, LA 70767.

Dated: July 30, 2004.
Dennis Puccinelli,
Executive Secretary.

[FR Doc. 04-18042 Filed 8-5-04; 8:45 am]

BILLING CODE 3510-DS-P